OFFICE OF PERSONNEL MANAGEMENT

Submission for Review: 3206-0237, Information and Instructions on Your Reconsideration Rights, RI 38-47

AGENCY: Office of Personnel Management.

ACTION: 60-Day notice and request for comments.

SUMMARY: Office of Personnel Management (OPM) offers the general public and other Federal agencies the opportunity to comment on an expiring information collection request (ICR), Information and Instruction on Your Reconsideration Rights, RI 38-47.

DATES: Comments are encouraged and will be accepted until April 28, 2026.

ADDRESSES: You may submit comments using the Federal Rulemaking Portal: http://www.regulations.gov. Follow the instructions for submitting comments. The general policy for comments and other submissions from members of the public is to make these submissions available for public viewing at http://www.regulations.gov as they are received without change, including any personal identifiers or contact information.

FOR FURTHER INFORMATION CONTACT: A copy of this ICR with applicable supporting documentation may be obtained by contacting the Retirement Services Publications Team, Office of Personnel Management, 1900 E Street NW, Room 3316-BD, Washington, DC 20415, Attention: Cyrus S. Benson, or by email to RSPublicationsTeam@opm.gov.

SUPPLEMENTARY INFORMATION: RI 38-47 outlines the procedures required to request reconsideration of an initial OPM decision about Civil Service or Federal Employees retirement, Federal or Retired Federal Employees Health Benefits requests to enroll or change enrollment, or Federal Employees' Group Life Insurance coverage. This form lists the procedures and time periods required for requesting reconsideration.

As required by the Paperwork Reduction Act of 1995, as amended (44 U.S.C. chapter 35), OPM is soliciting comments for this collection (OMB No. 3206-0237). The Office of Management and Budget is particularly interested in comments that:

1. Evaluate whether the proposed collection of information is necessary for the proper performance of functions of OPM, including whether the information will have practical utility;

2. Evaluate the accuracy of OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Retirement Operations, Retirement Services, Office of Personnel Management.

Title: Information and Instruction on Your Reconsideration Rights.

OMB: 3206-0237.

Frequency: On occasion.

Affected Public: Individuals or Households.

Number of Respondents: 3,100.

Estimated Time per Respondent: 45 minutes.

Total Burden Hours: 2,325 hours.

Office of Personnel Management.
Alexys Stanley,
Federal Register Liaison.

[FR Doc. 2026-03997 Filed 2-26-26; 8:45 am]

BILLING CODE 6325-38-P